DEPARTMENT OF COMMERCE

National Oceanic and Atmospheric Administration

RIN 0648-XF41

Atlantic Highly Migratory Species; Meeting of the Atlantic Highly Migratory Species Advisory Panel

AGENCY: National Marine Fisheries Service (NMFS), National Oceanic and Atmospheric Administration (NOAA), Commerce.

ACTION: Notice of public meeting.

SUMMARY: NMFS will hold a 3-day Highly Migratory Species (HMS) Advisory Panel (AP) meeting in April 2008. The intent of the meeting is to consider options for the conservation and management of Atlantic HMS. The meeting is open to the public.

DATES: The AP meeting will be held from 1 p.m. to 5 p.m. on Tuesday, April 15, 2008, from 8 a.m. to 5 p.m. on Wednesday, April 16, 2008, and from 8 a.m. to 12 noon on Thursday, April 17, 2008.

ADDRESSES: The meeting will be held at the Hilton Hotel, 8727 Colesville Road, Silver Spring, MD 20910; phone 301-589-5200.

FOR FURTHER INFORMATION CONTACT: Othel Freeman or Chris Rilling at 301-713-2347.

SUPPLEMENTARY INFORMATION: The Magnuson-Stevens Fishery Conservation and Management Act, 16 U.S.C. 1801 et seq., as amended by the Sustainable Fisheries Act, Public Law 104-297, provided for the establishment of an AP to assist in the collection and evaluation of information relevant to the development of any Fishery Management Plan (FMP) for HMS. NMFS consults with and considers the comments and views of AP members when preparing and implementing FMPs or FMP amendments for Atlantic tunas, swordfish, billfish, and sharks. The AP has previously consulted with NMFS on: the HMS FMP (April 1999), Amendment 1 to the HMS FMP (December 2003), Amendment 1 to the Billfish FMP (April 1999), and the Consolidated Atlantic HMS FMP (October 2006). The April 2008 AP meeting will focus on conservation and management options for Atlantic tunas, swordfish, billfish, and sharks.

Special Accommodations

This meeting is physically accessible to people with disabilities. Requests for sign language interpretation or other auxiliary aids should be directed to Carol Douglas at (301) 713-2347, at least 7 days prior to the meeting.

Authority: 16 U.S.C. 971 et seq. and 1801 et seq.

Dated: February 20, 2008.
Alan D. Risenhoover
Director, Office of Sustainable Fisheries, National Marine Fisheries Service.

[FR Doc. E8-3695 Filed 2-26-08; 8:45 am]

BILLING CODE 3510-22-S